FEDERAL ELECTION COMMISSION

Sunshine Act Meetings

TIME AND DATE: Thursday, February 25, 2021 following the conclusion of the repayment hearing.

PLACE: Virtual meeting. Note: Because of the covid-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-02: Full Employment Now-Political Action Committee (FEC-PAC)

Draft Advisory Opinion 2021-03: National Republican Senatorial Committee (NRSC) and National Republican Congressional Committee (NRCC)

Audit Division Recommendation Memorandum on Dr. Raul Ruiz for Congress (A19-03)

Management and Administrative Matters

CONTACT PERSON FOR MORE INFORMATION: Judith Ingram, Press Officer. Telephone: (202) 694-1220.

Authority: Government in the Sunshine Act, 5 U.S.C. 552b

Laura E. Sinram,
Acting Secretary and Clerk of the Commission.

[FR Doc. 2021-03694 Filed 2-18-21; 4:15 pm]

BILLING CODE 6715-01-P